FEDERAL COMMUNICATIONS COMMISSION

[FCC 08-92; WT Docket No. 05-211]

In the Matter of Implementation of the Commercial Spectrum Enhancement Act and Modernization of the Commission's Competitive Bidding Rules and Procedures

AGENCY: Federal Communications Commission.

ACTION: Notice.

SUMMARY: In the Second Order on Reconsideration of the Second Report and Order the Commission addresses a petition for reconsideration of the Commission's Second Report and Order concerning the Implementation of the Commercial Spectrum Enhancement Act and Modernization of the Commission's Competitive Bidding Rules and Procedures.

FOR FURTHER INFORMATION CONTACT: Wireless Telecommunications Bureau, Auctions and Spectrum Access Division: Stephen Johnson at (202) 418-0660.

SUPPLEMENTARY INFORMATION: This is a summary of the Second Order on Reconsideration of the Second Report and Order released on March 26, 2008. The complete text of the Second Order on Reconsideration of the Second Report and Order is available for public inspection and copying from 8 a.m. to 4:30 p.m. ET Monday through Thursday or from 8 a.m. to 11:30 a.m. ET on Fridays in the FCC Reference Information Center, Portals II, 445 12th Street, SW., Room CY-A257, Washington, DC 20554. The Second Order on Reconsideration of the Second Report and Order may be purchased from the Commission's duplicating contractor, Best Copy and Printing, Inc. (BCPI), Portals II, 445 12th Street, SW., Room CY-B402, Washington, DC 20554, telephone 202-488-5300, facsimile 202-488-5563, or you may contact BCPI at its Web site: http://www.BCPIWEB.com. When ordering documents from BCPI, please provide the appropriate FCC document number, for example, FCC 08-92. The Second Order on Reconsideration of the Second Report and Order is also available on the Internet at the Commission's Web site: http://wireless.fcc.gov/auctions.

Overview

1. The Second Order on Reconsideration of the Second Report and Order formally denies a Petition for Expedited Reconsideration (Petition) filed by Council Tree Communications, Inc., Bethel Native Corporation, and the Minority Media and Telecommunications Council (collectively, the Joint Petitioners).

2. The Petition sought reconsideration of various Commission decisions made in the Second Report and Order released on April 25, 2006, FR 71, 26245 (May 4, 2006), which modified the Commission's part 1 competitive bidding rules governing designated entities, including rules on eligibility for benefits and unjust enrichment. Joint Petitioners filed their Petition on May 5, 2006. On June 2, 2006, prior to the deadline for filing petitions for reconsideration of the Second Report and Order, the Commission released, sua sponte, an Order on Reconsideration, FR 71 34262 (June 14, 2006), which considered and rejected the arguments included in the Petition without formally denying the Petition.

3. In a July 2006 letter to the Commission, Joint Petitioners stated that the Commission had already decided the merits of the Petition and that the Joint Petitioners were no longer seeking reconsideration. Accordingly, Joint Petitioners asked that the Commission formally dispose of their Petition in order to take the de jure action already taken de facto by the Commission. The Commission agreed with Joint Petitioners that it had already decided the merits of the Petition in the Order on Reconsideration and that the Order on Reconsideration had conclusively rejected the Joint Petitioners' legal arguments.

4. Accordingly, it is ordered that pursuant to Sections 4(i), 5(b), 5(c)(1), 303(r), and 309(j) of the Communications Act, as amended, 47 U.S.C. 154(i), 155(b), 155(c)(1), 303(r), and 309(j), the Petition is hereby denied.

Federal Communications Commission.
Marlene H. Dortch,
Secretary.

[FR Doc. E8-7058 Filed 4-3-08; 8:45 am]

BILLING CODE 6712-01-P